DEPARTMENT OF TRANSPORTATION

Federal Aviation Administration

Agency Information Collection Activities: Requests for Comments; Clearance of New Approval of Information Collection: Safety Awareness, Feedback, and Evaluation (SAFE) Program

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on April 12, 2013, vol. 78, no. 71, pages 22020-22021. The information collected will be used by FAA Flight Standards Service to improve the quality and delivery of the services and products provided to their stakeholders.

DATES: Written comments should be submitted by December 4, 2013.

FOR FURTHER INFORMATION CONTACT: Kathy DePaepe at (405) 954-9362, or by email at: Kathy.DePaepe@faa.gov.

SUPPLEMENTARY INFORMATION: OMB Control Number: 2120-XXXX

Title: Safety Awareness, Feedback, and Evaluation (SAFE) Program

Form Numbers: No FAA forms are associated with this collection.

Type of Review: Clearance of a new information collection.

Background: Executive Order 12862 requires the Federal Government to provide the “highest quality service possible to the American people.” The FAA Flight Standards Service has designed the Safety Awareness, Feedback, and Evaluation (SAFE) Program to measure the aviation community stakeholder perception of effectiveness with various FAA-mandated and regulatory programs.

Respondents: A total sample of 4,782 commercial and non-commercial pilots, repair station operators, maintenance technicians, and air carrier operations managers.

Frequency: Information will be collected once annually per individual stakeholder group.

Estimated Average Burden per Response: 20 minutes.

Estimated Total Annual Burden: 531 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on October 30, 2013.
Albert R. Spence,
FAA Assistant Information Collection Clearance Officer, IT Enterprises Business Services Division, AES-200.

[FR Doc. 2013-26339 Filed 11-1-13; 8:45 am]

BILLING CODE 4910-13-P